NATIONAL CAPITAL PLANNING COMMISSION

Comprehensive Plan for the National Capital; Amendment of Federal Elements

AGENCY: National Capital Planning Commission.

ACTION: Notice of final adoption of and effective date.

SUMMARY: The National Capital Planning Commission (NCPC) amended the boundary and definition of the Central Employment Area of the 2016 Federal Workplace Element (Element) of the Comprehensive Plan for the National Capital: Federal Elements on March 4, 2021. The amendment includes a federal/District designation of a Central Employment Area, which prioritizes the location of federal workplaces in Washington, DC.

DATES: The amendment to the 2016 Federal Workplace Element will become applicable May 10, 2021.

ADDRESSES: The amendment to the 2016 Federal Workplace Element is available online for review at: https://www.ncpc.gov/initiatives/workplace.

FOR FURTHER INFORMATION CONTACT: Angela Dupont at (202) 482-7232 or info@ncpc.gov.

Authority: 40 U.S.C. 8721(a).

Dated: March 4, 2021.
Anne R. Schuyler,
General Counsel.

[FR Doc. 2021-04917 Filed 3-9-21; 8:45 am]

BILLING CODE P